DEPARTMENT OF COMMERCE

National Oceanic and Atmospheric Administration

50 CFR Part 660

[Docket No. 130528511-4171-03]

RIN 0648-BD31

Fisheries off West Coast States; Pacific Coast Groundfish Fishery Management Plan; Commercial, Limited Entry Pacific Coast Groundfish Fishery; Program Improvement and Enhancement; Correction

AGENCY: National Marine Fisheries Service (NMFS), National Oceanic and Atmospheric Administration (NOAA), Commerce.

ACTION: Final rule; correcting amendment.

SUMMARY: This action contains two corrections to the limited entry Pacific coast groundfish fishery's Program Improvement and Enhancement (PIE 2) regulations that published in the Federal Register on November 15, 2013. This document adds a Vessel Limit table that was inadvertently deleted and revises a section to replace language that was inadvertently removed by the Pacific coast groundfish fishery's Cost Recovery final rule that published December 11, 2013.

DATES: This rule is effective March 5, 2014.

FOR FURTHER INFORMATION CONTACT: Ariel Jacobs, 206-526-4491; Ariel.Jacobs@noaa.gov.

SUPPLEMENTARY INFORMATION:

Background

The Program Improvement and Enhancement rule (PIE 2) implemented revisions to the Pacific coast groundfish trawl rationalization program (program), a catch share program, and included clarifications of regulations that affect the limited entry trawl and limited entry fixed gear sectors managed under the Pacific Coast Groundfish Fishery Management Plan (FMP). Additional background information regarding each of these revisions and clarifications was described in detail in the proposed rule (78 FR 43125, July 19, 2013) and in the final rule (78 FR 68764, November 15, 2013), and that information is not repeated here.

An error in amendatory language resulted in the deletion of the Vessel Limit table at § 660.140 (e)(4)(i). This correction restores the Vessel Limit table to § 660.140 (e)(4)(i) following the introductory paragraph.

Implementation of the Cost Recovery Program for the Pacific coast groundfish trawl rationalization program (78 FR 75268, December 11, 2013) revised regulations at § 660.140 (f)(6) by adding a requirement that cost recovery fees be paid before a first receiver site license will be reissued (“NMFS will not reissue a first receiver site license until all required cost recovery program fees, as specified at § 660.115, associated with that license have been paid.”). At the time the cost recovery final rule published, the PIE 2 final rule had published but was not yet effective, and the existing paragraph at § 660.140 (f)(6) had not been revised to reflect necessary changes implemented by PIE 2 to the first receiver site license renewal process. Consequently, in addition to adding a necessary requirement for cost recovery at § 660.140 (f)(6), the cost recovery final rule also overwrote necessary revisions contained in the PIE 2 regulations. This correction revises § 660.140 (f)(6) to reinstate language that was implemented by PIE 2 (78 FR 68764, November 15, 2013) and incorrectly removed by the cost recovery rule (78 FR 75268, December 11, 2013); the correction includes the language added by the Cost Recovery final rule (“NMFS will not reissue a first receiver site license until all required cost recovery program fees, as specified at § 660.115, associated with that license have been paid”).

Classification

The Assistant Administrator (AA) for Fisheries, NOAA, finds that pursuant to 5 U.S.C. 553(b)(B), there is good cause to waive prior notice and an opportunity for public comment on this action, as notice and comment would be unnecessary, and contrary to the public interest. This document adds a Vessel Limit table that was incorrectly deleted at § 660.140 (e)(4)(i) and revises § 660.140 (f)(6) to replace language that was incorrectly removed or revised by 78 FR 75268 (December 11, 2013). Providing notice and comment on these changes is unnecessary because all are non-substantive and have no effect on the public or the operation of the fishery. Moreover, allowing inconsistencies in regulatory text is contrary to the public interest, because it could affect the enforceability of the regulations, and because inaccurate regulations could lead to public confusion and potentially to incorrect behavior. For the same reasons above, the AA finds good cause under 5 U.S.C. 553(d)(3) to waive the 30-day delay in effectiveness and makes this rule effective immediately upon publication.

List of Subjects in 50 CFR Part 660

Fisheries, Fishing, and Indian fisheries.

Dated: February 28, 2014.
Paul N. Doremus,
Deputy Assistant Administrator for Operations, National Marine Fisheries Service.

For the reasons set out in the preamble, 50 CFR part 660 is corrected by making the following correcting amendments:

PART 660—FISHERIES OFF WEST COAST STATES

1. The authority citation for part 660 continues to read as follows:

Authority: 16 U.S.C. 1801 et seq., 16 U.S.C. 773 et seq., and 16 U.S.C. 7001 et seq.

2. In § 660.140, revise paragraphs (e)(4)(i) and (f)(6) to read as follows:

§ 660.140 Shorebased IFQ Program.

* * * * *

(e) * * *

(4) * * *

(i) Vessel limits. For each IFQ species or species group specified in this paragraph, vessel accounts may not have QP or IBQ pounds in excess of the QP vessel limit (annual limit) in any year, and, for species covered by unused QP vessel limits (daily limit), may not have QP or IBQ pounds in excess of the unused QP vessel limit at any time. The QP vessel limit (annual limit) is calculated as all QPs transferred in minus all QPs transferred out of the vessel account. The unused QP vessel limits (daily limit) is calculated as unused available QPs plus any pending outgoing transfer of QPs.

Vessel Limits
Species category | QP vessel limit (annual limit) (in percent) | Unused QP vessel limit (daily limit) (in percent)
Arrowtooth flounder | 20 |
Bocaccio S. of 40°10′ N. lat. | 15.4 | 13.2
Canary rockfish | 10 | 4.4
Chilipepper S. of 40°10′ N. lat. | 15 |
Cowcod S. of 40°10′ N. lat. | 17.7 | 17.7
Darkblotched rockfish | 6.8 | 4.5
Dover sole | 3.9 |
English sole | 7.5 |
Lingcod: |  |
N. of 40°10′ N. lat. | 5.3 |
S. of 40°10′ N. lat. | 13.3 |
Longspine thornyhead: |  |
N. of 34°27′ N. lat. | 9 |
Minor rockfish complex N. of 40°10′ N. lat.: |  |
Shelf species | 7.5 |
Slope species | 7.5 |
Minor rockfish complex S. of 40°10′ N. lat.: |  |
Shelf species | 13.5 |
Slope species | 9 |
Other flatfish complex | 15 |
Pacific cod | 20 |
Pacific halibut (IBQ) N. of 40°10′ N. lat. | 14.4 | 5.4
Pacific ocean perch N. of 40°10′ N. lat. | 6 | 4
Pacific whiting (shoreside) | 15 |
Petrale sole | 4.5 |
Sablefish: |  |
N. of 36° N. lat. (Monterey north) | 4.5 |
S. of 36° N. lat. (Conception area) | 15 |
Shortspine thornyhead: |  |
N. of 34°27′ N. lat. | 9 |
S. of 34°27′ N. lat. | 9 |
Splitnose rockfish S. of 40°10′ N. lat. | 15 |
Starry flounder | 20 |
Widow rockfish | 8.5 | 5.1
Yelloweye rockfish | 11.4 | 5.7
Yellowtail rockfish N. of 40°10′ N. lat. | 7.5 |
Non-whiting groundfish species | 3.2 |

* * * * *

(f) * * *

(6) Re-registration of FRSL in subsequent years. Existing first receiver site license holders must reapply annually by following the application process specified in paragraph (f)(3) of this section. If the existing license holder fails to reapply, the first receiver site license will expire as specified in paragraph (f)(5) of this section. NMFS will not reissue a first receiver site license until all required cost recovery program fees, as specified at § 660.115, associated with that license have been paid. For existing first receiver site license holders to continue to receive IFQ landings without a lapse in the effectiveness of their first receiver site license, the following re-registration deadlines apply:

(i) NMFS will mail a first receiver site license application to existing license holders on or about February 1 each year.

(ii) Applicants who want to have their new license effective for July 1 must submit their complete re-registration application to NMFS by April 15. For those first receiver site license holders who do not submit a complete re-registration application by April 15, NMFS may not be able to issue the new license by July 1 of that calendar year, and will issue the new license as soon as practicable.

* * * * *

[FR Doc. 2014-04907 Filed 3-4-14; 8:45 am]

BILLING CODE 3510-22-P